DEPARTMENT OF EDUCATION

34 CFR Chapter II

[Docket ID ED-2023-OESE-0209]

Proposed Priorities, Requirements, Definitions, and Selection Criteria—Comprehensive Centers Program

AGENCY: Office of Elementary and Secondary Education, Department of Education.

ACTION: Proposed priorities, requirements, definitions, and selection criteria.

SUMMARY: The Assistant Secretary for Elementary and Secondary Education proposes priorities, requirements, definitions, and selection criteria under the Comprehensive Centers Program, Assistance Listing Number 84.283B. The Assistant Secretary may use one or more of these priorities, requirements, definitions, and selection criteria for competitions in fiscal year (FY) 2024 and later years. We intend to award grants to establish Comprehensive Centers that provide high-quality capacity-building services to State, regional, and local educational agencies and schools that improve educational opportunities and outcomes, close achievement gaps, and improve the quality of instruction for all students.

DATES: We must receive your comments on or before February 22, 2024.

ADDRESSES: Comments must be submitted via the Federal eRulemaking Portal at www.regulations.gov. However, if you require an accommodation or cannot otherwise submit your comments via www.regulations.gov, please contact the program contact person listed under FOR FURTHER INFORMATION CONTACT. To ensure that we do not receive duplicate copies, please submit your comments only once. In addition, please include the Docket ID at the top of your comments.

Federal eRulemaking Portal: Please go to www.regulations.gov to submit your comments electronically. Information on using Regulations.gov, including instructions for accessing agency documents, submitting comments, and viewing the docket, is available on the site under “FAQ.”

Privacy Note: The Department's policy is to make all comments received from members of the public available for public viewing in their entirety on the Federal eRulemaking Portal at www.regulations.gov. Therefore, commenters should be careful to include in their comments only information that they wish to make publicly available.

FOR FURTHER INFORMATION CONTACT: Dr. Michelle Daley. Telephone: (202) 987-1057. Email: OESE.ComprehensiveCenters@ed.gov.

If you are deaf, hard of hearing, or have a speech disability and wish to access telecommunications relay services, please dial 7-1-1.

SUPPLEMENTARY INFORMATION:

Invitation to Comment: We invite you to submit comments regarding the proposed priorities, requirements, definitions, and selection criteria. To ensure that your comments have maximum effect in developing the final priorities, requirements, definitions, and selection criteria, please identify clearly the specific proposed priorities, requirements, definitions, and selection criteria that each comment addresses.

We invite you to assist us in complying with the specific requirements of Executive Orders 12866, 13563, and 14094 and their overall requirement of reducing regulatory burden that might result from these proposed priorities, requirements, definitions, and selection criteria. Please let us know of any further ways we could reduce potential costs or increase potential benefits while preserving the effective and efficient administration of the program.

During and after the comment period, you may inspect public comments about the proposed priorities, requirements, definitions, and selection criteria by accessing Regulations.gov. To inspect comments in person, please contact the person listed under FOR FURTHER INFORMATION CONTACT.

Assistance to Individuals with Disabilities in Reviewing the Rulemaking Record: On request, we will provide an appropriate accommodation or auxiliary aid to an individual with a disability who needs assistance to review the comments or other documents in the public rulemaking record for these proposed priorities, requirements, definitions, and selection criteria. If you want to schedule an appointment for this type of accommodation or auxiliary aid, please contact the person listed under FOR FURTHER INFORMATION CONTACT.

Purpose of Program: The Comprehensive Centers Program supports the establishment of Comprehensive Centers to provide capacity-building services to State educational agencies (SEAs), regional educational agencies (REAs), local educational agencies (LEAs), and schools that improve educational outcomes, close achievement gaps, and improve the quality of instruction for all students, and particularly for groups of students with the greatest need, including students from low-income families and students attending schools implementing comprehensive support and improvement or targeted or additional targeted support and improvement activities under section 1111(d) of the Elementary and Secondary Education Act of 1965, as amended (ESEA).

Program Authority: Section 203 of the Educational Technical Assistance Act of 2002 (ETAA) (20 U.S.C. 9601 et seq.).

Public Participation: In developing proposed priorities for this program, the Department consulted with education stakeholders, including through Regional Advisory Committees (RACs) established under section 206 of the ETAA, Tribes, chief State school officers, chief executive officers of States, and Regional Educational Laboratory (REL) governing boards.

Tribal Consultation: Consistent with Executive Order 13175 and the Department's Tribal consultation policy, on January 24, 2023, the Department conducted a Tribal Consultation to gather perspectives from Tribal leaders, including Tribal educational agency (TEA) leaders, to inform the development of the Department's FY 2024 Comprehensive Center grant competition. More than 150 attendees joined the consultation.

Commenters highlighted the importance of including Tribes in developing Centers' five-year service plans to carry out authorized activities for the Comprehensive Centers Program. Commenters emphasized Tribal inclusion on Center advisory boards (described in section 203(g) of the ETAA) and participation in annual planning to align goals among SEAs, LEAs, IHEs, and TEAs to generate greater synergy for more meaningful changes and success for Native persons within the educational system.

Tribal leaders broadly affirmed the need for capacity-building services within the areas of focus of the Comprehensive Centers, in the following order of importance: (1) implement and scale up evidence-based programs, practices, and interventions that directly benefit recipients that have disadvantaged students or high percentages or numbers of students from low-income families; (2) support Tribal schools that are implementing support and improvement activities; (3) implement and scale up evidence-based programs, practices, and interventions that address the unique educational obstacles faced by rural populations; and (4) address corrective actions or results from audit findings and monitoring conducted by the Department at the request of the client. In addition, Tribal leaders identified specific needs for services in: (1) supporting rural areas with shortages of educators and student support staff, such as school psychologists, school social workers, and instructional coaches who have experience with trauma-informed instruction; (2) allocating resources to train and recruit professionals to work in Tribal communities; and (3) supporting TEAs with ongoing administrative functions.

Regional Advisory Committees: In accordance with ETAA section 206, the Secretary established 10 RACs to conduct an education needs assessment and identify each region's most critical educational needs and develop recommendations for technical assistance to meet those needs. The RACs met and engaged their respective constituencies to make their assessments and recommendations between August and November 2023. Final RAC reports were published in December 2023 on the Department's website at https://oese.ed.gov/offices/office-of-formula-grants/program-and-grantee-support-services/comprehensive-centers-program/regional-advisory-committees/.

While specific needs and recommendations varied by region, the most common needs identified across all 10 RACs were: (1) supporting teachers, school leaders, and school personnel, including addressing workforce shortages, supporting educator preparation programs and pathways, strengthening recruitment and retention, and diversifying the educator workforce; (2) supporting strong instruction and academic achievement, including supporting evidence-based math and literacy instruction, ensuring equity and addressing issues of disproportionality, addressing opportunity gaps to promote academic achievement and growth for all learners, and promoting access to a high-quality early childhood education; (3) supporting student populations with specific learning needs, including early grades, English learners, multilingual learners, children with disabilities, and growing populations of refugee and immigrant children and youth; (4) supporting student well-being and mental health; (5) promoting safe and engaged school communities, including promoting authentic parent and community engagement, positive school climate, and addressing issues of chronic absenteeism; and (6) promoting career and postsecondary educational pathways.

Education stakeholders noted that identified needs were not mutually exclusive and there is considerable overlap across educational priorities that may require coordinated approaches to implementing ESEA programs, promoting strong instruction, supporting educators, ensuring equity, and supporting school communities' academic, social emotional, and mental health needs. Detailed recommendations for services to meet those needs are included in the individual report from each RAC. Some examples of RAC recommendations included: (1) providing professional development to assist teachers in translating evidence-based practices into educator-friendly tools, resources, and training; (2) creating resources to support effective family engagement and improve academic achievement; (3) supporting data use and disaggregation to better identify and understand the needs of special student populations; (4) identifying and disseminating evidence-based approaches to meeting student instructional needs; (5) developing, implementing, and evaluating “grow your own” and apprenticeship programs as well as alternative pathways into the teaching profession; (6) developing targeted recruitment strategies including financial incentives, scholarship programs, and marketing campaigns highlighting the value of the profession to attract more individuals from diverse backgrounds to the profession; (7) supporting LEAs to provide differentiated and evidence-based professional learning opportunities to both novice and experienced teachers that are specific to the needs and context of their unique LEA and/or school; (8) supporting educators in identifying high-quality curricular and digital learning materials; (9) supporting SEAs and LEAs in developing new and innovative secondary and postsecondary pathways that emphasize applied learning and mastery; (10) supporting partnerships with local communities, local Tribes, and Tribal governments to identify local career needs and work-based learning opportunities and appropriate pathways; (11) supporting LEAs in developing resource allocation systems that allow resources to be focused on student learning (e.g., budgeting, scheduling, resourcing, and long-term planning); and (12) developing models for multi-tiered systems of support (MTSS) and integrating Positive Behavioral Interventions and Supports (PBIS) to address school and community mental health needs. The RACs noted that professional development and technical assistance must be grounded in adult learning theory, address the needs of educators and students of color, and, when proven effective, be shared across the region and with other regions.

Proposed Priorities

We propose three priorities. The Assistant Secretary may use one or more of these priorities for the FY 2024 Comprehensive Centers Program competition or for any subsequent competition.

Background:

The ESEA holds States accountable for closing achievement gaps and ensuring that all children, regardless of race, ethnicity, family income, English language proficiency, or disability, receive a high-quality education and meet challenging State academic standards.

The ETAA authorizes support for not less than 20 grants to establish Comprehensive Centers to support State and local educational systems to implement activities described in the ESEA to improve academic opportunities and outcomes for students. Centers are operated through cooperative agreements with the U.S. Department of Education. Centers focus on building the capacity of those receiving Comprehensive Center services (recipients) in one of four dimensions of capacity-building: human, organizational, policy, and resource. Recipients primarily include staff of SEAs and, as appropriate, REAs, including TEAs as defined in ESEA section 6132(b)(3); LEAs; and schools.

Under section 203(a)(2) of the ETAA, the Department must establish at least one Center in each of the 10 geographic regions served by the Department's Regional Educational Laboratories authorized under section 941(h) of the Educational Research, Development, Dissemination, and Improvement Act of 1994. The proposed funding for Centers established under the ETAA must take into consideration the school-age population, proportion of economically disadvantaged students, increased cost burdens of service delivery in rural areas, and number of schools identified for improvement under ESEA section 1111(d).

Section 203(d) of the ETAA directs the Centers to provide assistance to schools funded by the Bureau of Indian Education (BIE). Additionally, pursuant to authority granted to the Secretary in Title III of Division H of the Consolidated Appropriations Act, 2016 (Pub. L. 114-113), and the Consolidated Appropriations Acts for 2017 through the last act in 2023, Comprehensive Center services have been provided to the BIE and schools within its jurisdiction.

The Department last conducted a competition in 2019 and made five-year awards to 19 Regional Centers and one National Comprehensive Center (National Center). The 19 Regional Centers provide high-quality intensive capacity-building services to State clients and recipients to identify, implement, and sustain effective evidence-based (as defined in 34 CFR 77.1) practices that support improved educator and student outcomes. The National Center provides high-quality universal and targeted capacity-building services to address: high-leverage problems identified in Regional Center service plans; common findings from finalized Department monitoring reports or audit findings; implementation challenges faced by States and Regional Centers; and emerging national education trends. Prior Comprehensive Centers competitions also funded national Content Centers, which provide focused services in areas of high national need. An additional Content Center, funded in response to 2016 appropriations language and a new authority in the ESEA, focuses on students at risk of not attaining full literacy skills due to a disability.

Through the proposed priorities in this document, the Department intends to maximize the ability of the Comprehensive Centers to be flexible and responsive to specific State and local client needs while also providing leadership and focused support on issues of national importance to support education systems through a time of continued challenge and transition. This approach aligns with “Raise the Bar: Lead the World” ¹—the Department's recent call to action to all stakeholders to transform pre-kindergarten through postsecondary education and unite around evidence-based strategies that advance educational equity and excellence for all students.

¹ https://www.ed.gov/raisethebar.

The Department believes that the best way to support State and local efforts in achieving academic recovery and excellence through the Comprehensive Centers Program, consistent with the requirements of both the ESEA and the ETAA, is by supporting the capacity of State and local educational systems to improve core instruction, enable conditions to accelerate learning and deliver a comprehensive and rigorous education for every student, attend to the social, emotional, and mental wellbeing of school communities, eliminate the educator shortage, provide pathways to multilingualism, and meet the unique needs of all students. The Comprehensive Centers Program is also a critical support to SEAs, LEAs, and schools working to implement evidence-based practices to help accelerate academic recovery in math and literacy, while also promoting equity in student access to educational resources and opportunities to improve student outcomes and close opportunity gaps.

Additionally, and as noted throughout this document, the Department is interested in supporting the implementation of evidence-based approaches to addressing important educational challenges. As an important complement to the research and evaluation and research-related technical assistance function provided by the RELs, under the proposed priorities, Comprehensive Centers would focus capacity-building services on selecting, implementing, and sustaining evidence-based programs, policies, practices, and interventions. In doing this work, Centers must consider clients' capacity to select and implement evidence-based approaches, particularly for practice areas or populations where available evidence may be limited; help clients with implementation of evidence-based interventions that will help learners accelerate their learning and achievement; and document and disseminate information about their results. More information about using and building evidence is available in the Department's Non-Regulatory Guidance: Using Evidence to Strengthen Education Investments, which can be found at https://www2.ed.gov/fund/grant/about/discretionary/2023-non-regulatory-guidance-evidence.pdf.

To support capacity-building that is customer-focused, results-driven, and most likely to help recipients sustain positive impact on students, we believe the Centers must focus services on helping recipients to (1) identify root causes of, and select the most appropriate and effective evidence-based solutions to address, high-leverage educational problems, (2) create sustainable organizational structures and performance management systems that help recipients set priorities for using their resources to achieve desired results, (3) increase their ability to use those structures and systems to ensure that LEAs and schools are provided high-quality services and supports, (4) support the implementation and scaling of evidence-based strategies in LEAs and schools, (5) identify and implement a continuum of supports and interventions to address the specific and varying needs of LEAs and schools, (6) support the sustainability of State- and local-led approaches, and (7) contact and engage with entities that have not asked for targeted support but may be in need of it based on available data.

We believe three tiers of services can be offered: (1) universal, (2) targeted, and (3) intensive. Within the proposed priorities for the Comprehensive Centers, Regional Centers would specialize in providing intensive supports, whereas National and Content Center(s) would primarily provide targeted and universal services.

Consistent with the RAC findings and recommendations and the requirements in the ESEA and ETAA, the proposed priorities address service delivery in all tiers related to the teaching and learning of all children, including those with disabilities and who are English Learners and multilingual; supporting school improvement activities; maximizing flexibility and responsiveness; and enabling more coherent, coordinated, and efficient service delivery to all States, while minimizing duplication of services across 14 Regional Centers, 4 Content Centers, and one National Center. Under the proposed priorities, Regional Centers and the National Center would address critical needs related to teaching and learning, while remaining flexible to address emerging needs, enhancing the ability of the Department to provide focused services in areas of high national need through the Content Centers. Such delineation would support a balance of responsiveness and coherent, coordinated, and efficient service delivery across Comprehensive Centers.

National, Content, and Regional Comprehensive Centers

Under the proposed priorities, the Comprehensive Centers would operate as a network comprised of National and Content Centers that identify and provide scalable solutions at the national level that can be replicated in States, and Regional Centers that serve as the entry point to the network and focus on providing individualized, intensive, and responsive support to meet the specific needs of States and systems within their regions.

First, under the proposed priorities, the National Center would address educational issues related to instruction, learning, and improvement at a national level. Every State and LEA has a set of policies, programs, and systems that relate to each of these areas. The multitude of State and local needs and priorities identified by the RACs associated with aligning instruction, assessment, accountability, school improvement, school climate and environment, and addressing opportunity gaps are interconnected. The Department believes that one National Center can most effectively support these interconnected needs using an integrated technical assistance approach that models and supports alignment within the agencies it serves.

The National Center would also support the implementation and scale-up of evidence-based practices across the Nation. For example, the National Center might begin by convening practitioners and education system leaders who were successfully addressing a common need using one or more evidence-based practices to elicit practitioner and leader feedback about their perceived barriers and success factors in implementing those practices. Using that feedback, the National Center could then develop and disseminate resources and tools that supported broader implementation of the practices, getting buy-in from stakeholders and supporting LEAs in change management and professional development. The National Center would disseminate these effective universal capacity-building resources and tools nationally and through the Regional Centers and other Federal technical assistance providers (federally funded providers), to provide targeted opportunities for SEA and LEA peers to work together to apply and implement them.

Additionally, the National Center would serve as the core of the Comprehensive Center Network (CCNetwork), which would enable it to identify common implementation challenges and emerging national education issues facing States across regions and content areas and to coordinate support among Regional and Content Centers. In this role, the National Center's activities could include facilitating peer learning among Centers and their clients, and identifying best practices in providing and scaling effective capacity-building services that will enhance the effectiveness of services provided across the network. The National Center would also most effectively cooperate with other federally funded providers to identify gaps in services where the National Center may provide needed support and avoid duplication of services across Federal investments. Finally, the National Center would most effectively disseminate resources from the CCNetwork to potential recipients.

To effectively serve in this role, under the proposed requirements and selection criteria, the National Center must have expertise in implementation science, adult learning, and developing effective training materials for adults, to enable it to design effective universal capacity-building tools to assist Regional Centers in taking effective practices to scale within their States.

Under the proposed priorities, the National Center would provide services to SEAs, LEAs, REAs, TEAs, and other recipients, in addition to Regional and Content Centers, to address identified national needs. Accordingly, under the proposed requirements, Regional Centers must be poised to share timely information from a variety of regional stakeholders about their capacity needs with the National Center and must reserve a portion of their time to support their States in participating in targeted capacity-building services facilitated through National or Content Centers and implementing the tools and resources the National and Content Centers produce.

Under the proposed priorities, Regional Centers would serve as the entry point for States to the CCNetwork and support States in navigating available support from the CCNetwork and other federally funded providers. The Department acknowledges the importance of aligning Federal supports to State and local needs within each identified region; therefore, we propose closely aligning these centers to the existing REL regions, while also enhancing support for States and recipients with higher needs or special initiatives being undertaken by State, intermediate, or local educational agencies, or BIE-funded schools, as appropriate, which may require special assistance from the Regional Center.

In turn, under the proposed priorities, the Content Centers funded under this program would work to increase the depth of knowledge and expertise available to Regional Centers, SEAs, and LEAs in key areas of high national importance and need. Content Centers would complement the work of the Regional Centers by providing targeted, universal, and, where appropriate, intensive capacity-building services, including information, publications, tools, and specialized technical assistance based on evidence-based practices, in their specific content area. The Content Centers would also play a key role in improving efficiency in developing and disseminating technical assistance by, for example, avoiding the duplication and higher costs of parallel efforts by two or three Regional Centers. Content Centers must have national subject matter expertise and practitioner experience to ensure both the ability to draw on the latest research and evidence related to the area of need, as well as to provide high-quality assistance that draws from the experience of professionals who have successfully led State and local agencies and provided successful high-quality capacity-building services.

To meet specific areas of need, including topics identified by the RACs and through monitoring of ESEA programs that are not otherwise served by the National Center or other Department investments, the Assistant Secretary proposes funding priorities for four Content Centers: (1) the Center on English Learners and Multilingualism, (2) the Center for Early School Success, (3) the Center on Fiscal Equity, and (4) the Center on Strengthening and Supporting the Educator Workforce.

The Department also acknowledges that some important priorities identified through Tribal consultation and by the RACs are already being addressed through other significant Federal investments in technical assistance. Such investments include substantial support provided through technical assistance centers funded under Title IV, Part A of the ESEA and the Bipartisan Safer Communities Act (BSCA) for promoting student well-being and mental health, establishing safe and supportive school communities, and addressing school climate and chronic absenteeism; investments in family engagement through the Statewide Family Engagement Centers; and significant support provided through centers funded under IDEA technical assistance and dissemination programs for children with disabilities. Where services are already being provided, the Department encourages Comprehensive Centers to refer to or partner with those federally funded providers, and to focus Comprehensive Center services on meeting gaps in identified needs that are not yet being addressed through other Federal investments.

Proposed Priority 1—National Comprehensive Center.

Projects that propose to establish a National Center to (1) provide high-quality, high-impact technical assistance and capacity-building services to the Nation that are designed to improve educational opportunities and educator and student outcomes and (2) coordinate the work of the CCNetwork to effectively use program resources to support evidence use and the implementation of evidence-based (as defined in 34 CFR 77.1) practices to close opportunity gaps and improve educational outcomes, particularly accelerating academic achievement in math and literacy for all students, and particularly for groups of students with the greatest need, including students from low-income families and students attending schools implementing comprehensive support and improvement or targeted or additional targeted support and improvement activities under section 1111(d) of the ESEA, in a manner that reaches and supports as many SEAs, REAs, TEAs, LEAs, and schools in need of services as possible.

The National Center must design and implement an effective approach to providing high-quality, useful, and relevant universal, targeted, and, as appropriate and in partnership with Regional Centers, intensive capacity-building services that are likely to achieve desired recipient outcomes. The approach must be driven by adult learning strategies and incorporate implementation, improvement, and systems change frameworks. The approach must promote alignment across interconnected areas of need, programs, and agency systems.

The National Center must implement effective strategies for coordinating with the Regional Centers and Content Centers to assess educational needs; coordinate common areas of support across Centers; share and disseminate information about CCNetwork services, tools, and resources to maximize the reach of the CCNetwork across clients and education stakeholders; coordinate with other federally funded providers regarding the work of the CCNetwork and support navigation of available support for clients; and support the selection, implementation, scale-up, and dissemination of evidence-based practices that will improve educational outcomes, particularly academic achievement in math and literacy, and close opportunity gaps for all students, particularly for groups of students with the greatest need, including students from low-income families and students attending schools implementing comprehensive support and improvement or targeted or additional targeted support and improvement activities under section 1111(d) of the ESEA.

Services must address: common high-leverage problems identified in Regional Center service plans (as outlined in the Program Requirements for the National Center); findings from finalized Department monitoring reports or audit findings; implementation challenges faced by States and LEAs related to teaching, learning, and development; needs of schools designated for improvement; needs related to closing achievement and opportunity gaps; needs to improve core instruction; and emerging education topics of national importance.

The National Center must provide universal and targeted capacity-building services that demonstrably assist SEAs, REAs, TEAs, LEAs, and Regional Center clients and recipients to—

(1) Implement approved ESEA Consolidated State Plans, with preference given to implementing and scaling evidence-based programs, practices, and interventions that directly benefit entities that have high percentages or numbers of students from low-income families as referenced in Title I, Part A of the ESEA (ESEA sec. 1113(a)(5));

(2) Implement and scale up evidence-based programs, practices, and interventions that lead to the increased capacity of SEAs and LEAs to address the unique educational challenges and improve outcomes of schools implementing comprehensive support and improvement activities or targeted or additional targeted support and improvement activities as referenced in Title I, Part A of the ESEA (ESEA sec. 1111(d)) and their students;

(3) Implement State accountability and assessment systems consistent with Title I, Part A of the ESEA (ESEA section 1111(b)-(d));

(4) Implement and scale up evidence-based programs, practices, and interventions that improve instruction and outcomes in core subjects, including math and literacy instruction;

(5) Address the unique educational obstacles faced by rural and Tribal students; and

(6) Implement and scale up evidence-based programs, practices, and interventions that address other emerging education topics of national importance that are not being met by another federally funded provider (e.g., best practices in the use of education technology).

An applicant under this priority must demonstrate how it will cultivate a network of national subject matter experts from a diverse set of perspectives or organizations to provide capacity-building support to Regional Centers and clients regarding the ESEA topical areas listed above and other emerging education issues of national importance.

Proposed Priority 2—Regional Centers.

Projects that propose to establish Regional Centers to provide high-quality, intensive capacity-building services to State and local clients and recipients to assist them in selecting, implementing, and sustaining evidence-based programs, practices, and interventions that will result in improved educator practice and student outcomes, especially in math and literacy.

Each Regional Center must provide high-quality, useful, and relevant capacity-building services that demonstrably assist clients and recipients in—

(1) Carrying out Consolidated State Plans approved under the ESEA, with preference given to the implementation and scaling up of evidence-based programs, practices, and interventions that directly benefit recipients that have high percentages or numbers of students from low-income families as referenced in Title I, Part A of the ESEA (ESEA sec. 1113(a)(5)) and recipients that are implementing comprehensive support and improvement activities or targeted or additional targeted support and improvement activities as referenced in Title I, Part A of the ESEA (ESEA sec. 1111(d));

(2) Implementing, scaling up, and sustaining evidence-based programs, practices, or interventions that focus on key initiatives that lead to LEAs and schools improving student outcomes. Key initiatives may include implementing evidence-based practices to help accelerate academic recovery in math and literacy (include, high-impact tutoring, high-quality summer and after-school programming, and effective interventions to reduce chronic absenteeism), improving core instruction, implementing innovative approaches to assessment, responding to educator shortages, or developing aligned and integrated agency systems;

(3) Addressing the unique educational obstacles faced by underserved populations, including students from low-income families, students of color, students living in rural areas, Tribal students, English learners, students in foster care, migratory children, immigrant children and youth, and other student populations with specific needs defined in the ESEA; and

(4) Improving implementation of ESEA programs by addressing corrective actions or results from audit findings and ESEA program monitoring, conducted by the Department, that are programmatic in nature, at the request of the client.

Regional Centers must effectively work with the National Center and Content Centers, as needed, to assist clients in selecting, implementing, and sustaining evidence-based programs, policies, practices, and interventions; and must develop cost-effective strategies to make their services available to as many SEAs, REAs, TEAs, LEAs, and schools within the region in need of support as possible.

Applicants must propose to operate a Regional Center in one of the following regions:

Region 1 (Northeast): Connecticut, Massachusetts, Maine, New Hampshire, New York, Rhode Island, Vermont

Region 2 (Islands): Puerto Rico, Virgin Islands

Region 3 (Mid-Atlantic): Delaware, District of Columbia, Maryland, New Jersey, Pennsylvania

Region 4 (Appalachia): Kentucky, Tennessee, Virginia, West Virginia

Region 5 (Southeast): Georgia, North Carolina, South Carolina

Region 6 (Gulf): Alabama, Florida, Mississippi

Region 7 (Midwest): Indiana, Michigan, Ohio, Illinois, Iowa, Minnesota, Wisconsin

Region 8 (Central): Colorado, Kansas, Missouri, Nebraska, North Dakota, South Dakota, Wyoming

Region 9 (Southwest): Arkansas, Louisiana, New Mexico, Oklahoma, Texas

Region 10 (West): Arizona, California, Nevada, Utah

Region 11 (Northwest): Alaska, Oregon, Washington, Idaho, Montana

Region 12 (Pacific 1): American Samoa, Hawaii, Republic of the Marshall Islands

Region 13 (Pacific 2): Commonwealth of the Northern Mariana Islands, Federated States of Micronesia, Guam, Palau

Region 14: Bureau of Indian Education

Proposed Priority 3—Content Centers.

Projects that propose to establish Content Centers to provide targeted and universal capacity-building services in a designated content area of expertise to SEA, REA, TEA, and LEA clients designed to improve educational opportunities, educator practice, and student outcomes.

Content Centers must be designed to build the capacity of practitioners, education system leaders, public schools serving preschool through 12th grades (P-12) (which may include Head Start and community-based preschool), LEAs, and SEAs to use evidence in the designated content area. Capacity-building services may include, for example, developing evidence-based products and tools, and providing services that directly inform the use of evidence in a State or local policy or program or improved program implementation to achieve desired educational outcomes. Services must promote the use of the latest evidence, including research and data; be effectively delivered using best practices in technical assistance and training; and demonstrate a rationale for how they will result in improved recipient outcomes.

Content Centers must support Regional Centers, as needed, with subject matter expertise to enhance the intensive capacity-building services provided by the Regional Centers or to design universal or targeted capacity-building services to meet identified SEA, REA, TEA, or LEA needs.

Content Centers must effectively coordinate and align targeted capacity-building services with the National Center, Regional Centers, and other federally funded providers, as appropriate, to address high-leverage problems and provide access to urgently needed services to build Centers' capacity to support SEAs and local clients. Content Centers must effectively coordinate with the National Center, Regional Centers, and other federally funded providers to assess potential client needs, avoid duplication of services, and widely disseminate products or tools to practitioners, education system leaders, and policymakers in formats that are high quality, easily accessible, understandable, and actionable to ensure use of services by as many SEA, REA, TEA, and LEA recipients as possible.

Applicants must propose to operate a Content Center in one of the following areas:

(1) English Learners and Multilingualism. The Center on English Learners and Multilingualism must provide universal, targeted, and, as appropriate and in partnership with Regional Centers, intensive capacity-building services designed to support SEAs and LEAs to meet the needs of English learners, including the needs of English learners with disabilities, and increase access to high-quality language programs so that they, along with all students, have the opportunity to become multilingual. The Center must also support the selection, implementation, and scale-up of evidence-based practices, in coordination with the National Clearinghouse for English Language Acquisition, related to meeting the needs of English learners.

(2) Early School Success: The Center for Early School Success must provide universal, targeted, and, as appropriate and in partnership with Regional Centers, intensive capacity-building services designed to support SEAs and LEAs to implement comprehensive and aligned preschool to third-grade (P-3) early learning systems in order to increase the number of children who experience success in early learning and achievement, including developmentally informed and evidence-based instructional practices in social emotional development, early literacy, and math. The Center must support the selection, implementation, and scale-up of programs, policies, and practices, informed by research on child development, that can strengthen P-3 learning experiences and support social, emotional, cognitive, and physical development.

(3) Fiscal Equity: The Center on Fiscal Equity must provide universal, targeted, and, as appropriate and in partnership with Regional Centers, intensive capacity-building services designed to support SEAs and LEAs in strengthening equitable and adequate school funding strategies, including the allocation of State and local funding; improving the quality and transparency of fiscal data at the school level; and prioritizing supports for students and communities with the greatest need. The Center must support the selection, implementation, and scale-up of evidence-based programs, policies, and practices that promote responsible fiscal planning and management and effective and permissible uses of ESEA formula funds, including through combining those funds with other available and allowable Federal, State, and local funds (“blending and braiding”) and considering how ESEA funds may interact with and complement other Federal programs, such as IDEA, Medicaid, and Head Start to improve student opportunities and outcomes.

(4) Strengthening and Supporting the Educator Workforce: The Center on Strengthening and Supporting the Educator Workforce must provide universal, targeted, and, as appropriate and in partnership with Regional Centers, intensive capacity-building services designed to support SEAs to support their LEAs and schools in designing and scaling practices that establish and enhance high-quality, comprehensive, evidence-based, and affordable educator pathways, including educator residency and Grow Your Own programs, as well as emerging pathways into the profession such as registered apprenticeship programs for teachers and that improve educator diversity, recruitment, and retention. The Center must support the selection, implementation, and scale-up of evidence-based programs, policies, and practices that are likely to support States and LEAs in addressing educator shortages and providing all students with highly qualified educators across the P-12 continuum, including through increased compensation and improved working conditions; high-quality, comprehensive, evidence-based, and affordable educator preparation, including educator residency and Grow Your Own programs, as well as emerging pathways into the profession such as registered apprenticeship programs for teachers; providing opportunities for teacher leadership and career advancement; ongoing professional learning throughout educators' careers, including implementing evidence-based strategies for effective teaching and learning; strengthening new teacher induction; and supporting and diversifying the educator workforce, as well as other actions to improve learning conditions and educator well-being.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Requirements

Background

The Department proposes program and application requirements to support effective administration of Comprehensive Center services.

The proposed application requirements are designed to complement the proposed program requirements. Under the proposed program requirements, Centers would be required to model best practices in implementation design and performance management. Under the proposed application requirements, applicants must demonstrate how they will model best practices, including by describing strategies to identify the root causes driving high-leverage problems, select the evidence-based practices that most effectively address those causes, and implement effective practices in implementation design and performance management to achieve desired outcomes.

In meeting the proposed program requirement for annual service plans, proposed capacity-building services must be in service of outcomes that (a) are co-designed with clients; (b) address authentic needs based on needs-sensing activities; (c) are clear and measurable; and (d) have associated achievable, specific targets. Long-term goals should serve as a “north star” for the work of the Centers and should be in service of their clients' goals. This requires highly inclusive needs sensing processes that include relevant stakeholders and recipients in the process of defining the needs to be addressed, and disciplined processes by which Centers help clients to define the specific outcomes they aim to achieve that will result in improved educational outcomes.

In addition, the proposed requirements for stakeholder engagement would ensure that meaningful efforts are made to engage with, and incorporate the views of, a broad range of potential clients, including those who did not initially request support but may benefit from it based on available data. These stakeholder engagement requirements would be reinforced through the proposed communication and dissemination requirements, which would require Centers to ensure services are broadly disseminated to reach as many potential clients as possible. Finally, the proposed program requirements for performance management would require Centers to quantify and collect data on the use, reach, and impact of Center services in alignment with the performance measures for this program.

Effective service delivery requires highly qualified personnel who bring both subject matter content and technical expertise. Under the proposed program requirements, subject matter experts must include professionals with significant and demonstrated scholarly expertise in content areas and approaches relevant to the work the Center undertakes as well as practitioners who have significant—and, ideally, recent—experience directly leading State or local educational systems. Under the proposed application requirements, applicants must describe how highly qualified personnel will combine subject matter expertise with strong demonstrated expertise providing effective technical assistance through teaching and leading professional development in those content areas.

Additionally, successfully managing a Center, developing deep customer-focused relationships with States, and managing complex projects with varied stakeholders requires significant investment of personnel time and leadership. Under the proposed program requirements, Centers must strive to achieve as close to full-time equivalency (FTE) as practicable for all personnel in key leadership and service-delivery roles, and at least .75 FTE for the Program Director, to help ensure that sufficient leadership and expertise are available to support effective management and service provision. Additionally, the proposed program requirements for the National Center require at least 1 FTE Project Director, or co-Directors each with at least .75 FTE, to ensure sufficient leadership capacity for the project.

While Centers assist clients in selecting evidence-based practices, they additionally help them develop and implement practices that may become models to others. To expand the reach of the Centers, each Center must effectively curate and disseminate effective practices. Under the proposed program requirement for communications and dissemination plans, Centers must intentionally plan for how information will be used and by whom, and what strategies most effectively engage their target audiences to expand the reach and potential impact of their services, tools, and products. And under the proposed program requirement for performance management systems, Centers must measure and report on the effectiveness of these strategies, including the reach of their services, to monitor and improve the efficacy of their communication and dissemination strategies.

In providing services within the CCNetwork, and in alignment with other providers who are servicing the same clients, Centers must approach collaboration intentionally to reduce client burden in interacting with multiple providers, and to ensure that Federal resources are being used most efficiently and effectively to meet a variety of needs across federally funded providers. While each Center may have a specific recipient type or area of expertise, all work in service of the same goals. To avoid duplication wherever possible, under the program requirements for annual service plans and partnership agreements, Centers must coordinate common activities, such as needs sensing with State agency leadership, with other federally funded providers serving their intended clients, to the extent practicable, and must establish processes to identify which Centers may be best suited to meet expressed and identified needs.

Under the proposed program requirements relating to CCNetwork peer learning, Centers must share with other regions knowledge of effective practices and approaches to capacity-building used with their clients. We believe that Centers will benefit by learning from each other and that this requirement would promote the achievement of each Center's intended outcomes, as well as enhance the overall impact of the CCNetwork.

The Department recognizes that we cannot anticipate every need a State may have, and that critical needs could emerge throughout the grant period that will require Centers to rapidly respond to meet new demands. For that reason, the Department proposes to require each Center to reserve funds annually to address emerging needs.

Proposed Program Requirements:

The Assistant Secretary proposes the following program requirements for this program. We may apply one or more of these requirements in any year in which this program is in effect.

Program Requirements for All Centers: National, Regional, and Content Center grantees under this program must:

(1) Develop service plans annually for carrying out the technical assistance and capacity-building activities to be delivered by the Center in response to educational challenges facing students, practitioners, and education system leaders. Plans must include: High-leverage problems to be addressed, including identified client needs, capacity-building services to be delivered, time-based outcomes (i.e., short-term, mid-term, long-term), responsible personnel, key technical assistance partners, milestones, outputs, dissemination plans, fidelity measures, if appropriate, and any other elements specified by the Department. The annual service plans must be an update to the Center's five-year plan submitted as part of the initial grant application and account for changes in client needs.

(2) Develop and implement capacity-building services, including tools and resources, in partnership with State and local clients and recipients to reflect and address specific client needs and contexts and promote sustainable evidence utilization to address identified educational challenges.

(3) Develop and implement an effective performance management system that integrates continuous improvement to promote effective achievement of client outcomes. The system must include methods to measure and monitor progress towards agreed upon outcomes, outputs, and milestones and to measure the reach, use, and impact of the services being delivered to ensure capacity-building services are implemented as intended, reaching intended clients and recipients, and achieving desired results. Progress monitoring must include periodic assessment of client satisfaction and timely identification of changes in State contexts that may impact the project's success. The performance management system must include strategies to report on defined program performance measures.

(4) Develop and implement a stakeholder engagement system to regularly communicate, engage, and coordinate, using feedback to inform improvement, across organizational levels (Federal, State, and local), and facilitate regular engagement of stakeholders involved in or affected by proposed services. This system must provide regular and ongoing opportunities for outreach activities (e.g., regular promotion of services and products to potential and current recipients, particularly at the local level) and regular opportunities for engagement with potential beneficiaries or participants involved in or impacted by proposed school improvement activities (e.g., students, parents, educators, administrators, Tribal leaders) to ensure services reflect their needs.

(5) Develop and implement a high-quality personnel management system to efficiently obtain and retain the services of nationally recognized technical and content experts and other consultants with direct experience working with SEAs, REAs, and LEAs. The Center must ensure that personnel have the appropriate expertise to deliver high-quality capacity-building services that meet client and recipient need and be staffed at a level sufficient for achieving the goals of its assigned projects and responsibilities.

(6) Develop and implement a comprehensive communication and dissemination plan that includes strategies to disseminate information in multiple formats and media (e.g., evidence-based practice tool kits, briefs, informational webinars) including through CCNetwork websites, social media, and other methods as appropriate, and strategies to monitor the use of the information it disseminates. The plan must include approaches to determine, at the outset of each project, in consultation with clients, the most effective modality and methodology for capturing evidence-based practices and lessons learned, dissemination strategies customized and based on needs of the targeted audience(s), and strategies to monitor and measure audience engagement and use of information and products of the Center. Centers must work with partners to disseminate products through networks in which the targeted audiences are most likely to seek or receive information with the goal of expanding the reach of Centers to the largest number of recipients possible.

(7) Identify and enter into partnership agreements with federally funded providers, State and national organizations, businesses, and industry experts, as applicable, to support States in the implementation and scaling-up of evidence-based programs, practices, and interventions, as well as reduce duplication of services and engagement burden to States. Where appropriate, the agreements should document how the partnerships might advance along a continuum to effectively meet program and client goals.

(8) Within 90 days of receiving funding for an award, demonstrate to the Department that it has secured client and partner commitments to carry out proposed annual service plans.

(9) Participate in a national evaluation of the Comprehensive Centers Program.

Program Requirements for National Comprehensive Center: In addition to the requirements for all Centers, National Center grantees under this program must:

(1) Design and implement robust needs sensing activities and processes to consult with and integrate feedback from the Department, Regional and Content Centers, and advisory boards that surface high-leverage problems that could be effectively addressed in developing the national annual service plan.

(2) Collaborate with Regional and Content Centers to implement universal and targeted services for recipients to address high-leverage problems identified in the annual service plan. In providing targeted services (e.g., multi-State and cross-regional peer-to-peer exchanges or communities of practice on problems), the National Center must provide opportunities for recipients to learn from their peers and subject matter experts and apply evidence-based practices and must define tangible, achievable capacity-building outcomes for recipient participation. Universal services must be grounded in evidence-based practices, be produced in a manner that recipients are most likely to use, be shared via multiple mechanisms such as the CCNetwork website, social media, and other channels as appropriate, and be appropriate for a variety of education stakeholders, including the general public.

(3) Develop and implement a strategy to recruit and retain a comprehensive cadre of national subject matter experts that includes qualified education practitioners, researchers, policy professionals, and other consultants with (1) direct experience working in or with SEAs, REAs, and LEAs and (2) in-depth expertise in specific subject areas with an understanding of State contexts available to support universal and targeted services of the National Center and intensive capacity-building services of Regional Centers. Cadre experts must have a proven record of designing and implementing effective capacity-building services, using evidence effectively, and delivering quality adult learning experiences or professional development experiences that meet client and recipient needs and must have recognized subject matter expertise including publishing in peer-reviewed journals and presenting at national conferences on the ESEA programs or content areas for which they are engaged as experts to provide universal, targeted, or intensive capacity building.

(4) Reserve not less than one half of the annual budget to provide universal, targeted, and, as needed, intensive services to address topics 1-5 enumerated in the priority for this Center and as approved by the Department in the annual service plan.

(5) Include in the communications and dissemination plan, and implement, processes for outreach activities (e.g., regular promotion of services and products to clients and potential and current recipients), use of feedback loops across organizational levels (Federal, State, and local), regular engagement and coordination with the Department, Regional Centers, and partner organizations (e.g., federally funded providers), and engagement of stakeholders involved in or impacted by proposed school improvement activities.

(6) Design and implement communications and dissemination vehicles for the CCNetwork, including maintaining the CCNetwork website with an easy-to-navigate design that meets government or industry recognized standards for accessibility, including compliance with Section 504 of the Rehabilitation Act of 1973, and maintain a consistent media presence, in collaboration with Regional and Content Centers and the Department Communications office, that promotes increased engagement.

(7) Develop peer learning opportunities for Regional and Content Center staff (and other partners, as appropriate) to address implementation challenges and scale effective practices to improve service delivery across the CCNetwork.

(8) Collect and share information about services provided through the CCNetwork for the purpose of coordination, collaboration, and communication across Centers and other providers, including an annual analysis of service plans to identify and disseminate information about services rendered across the CCNetwork.

(9) Ensure that the Project Director is capable of managing all aspects of the Center and is either staffed at 1 FTE or there are two Co-Project Directors each at a minimum of 0.75 FTE. The Project Director or Co-Project Directors and all key personnel must be able to provide services at the intensity, duration, and modality appropriate to achieving agreed-upon milestones, outputs, and outcomes described in annual service plans.

(10) Reserve not less than one third of the budget to address the program requirements for CCNetwork coordination (requirements 5 through 8).

Program Requirements for Regional Centers: Regional Center grantees under this program must:

(1) Actively coordinate and collaborate with the REL serving their region. Coordination must include annual joint need sensing in a manner designed to comprehensively inform service delivery across both programs while reducing burden on State agencies. The goals of this coordination and collaboration are to share, synthesize, and apply information, ideas, and lessons learned; to enable each type of provider to focus on its designated role; to ensure that work is non-duplicative; to streamline and simplify service provision to States and LEAs; and to collaborate on projects to better support regional stakeholders.

(2) Consult with a broad range of stakeholders, including chief State school officers and other SEA leaders, TEAs, LEAs, educators, students, and parents, and integrate their feedback in developing the annual service plan to reflect the needs of all States (and to the extent practicable, of LEAs) within the region to be served.

(3) In developing the annual service plan, ensure services are provided to support students and communities with the highest needs, including recipients: (i) that have high percentages or numbers of students from low-income families as referenced in Title I, Part A of the ESEA (ESEA sec. 1113(a)(5)); (ii) that are implementing comprehensive support and improvement activities or targeted or additional targeted support and improvement activities as referenced in Title I, Part A of the ESEA (ESEA sec. 1111(d)); (iii) in rural areas; and (iv) serving student populations with demonstrated needs unmet or under-met through other Federal, State, or local interventions.

(4) Explore and provide opportunities to connect peers within and across regions.

(5) Collaborate with the National Center and Content Centers, as appropriate, including to support client and recipient participation in targeted capacity-building services, and obtain and retain the services of nationally recognized content experts through partnership with the National Center, Content Centers, or other federally funded providers.

(6) Support the participation of Regional Center staff in CCNetwork peer learning opportunities, including sharing information about effective practices in the region, to extend the Center's reach to as many SEAs, REAs, LEAs, and schools in need of services as possible while also learning about effective capacity-building approaches to enhance the Center's ability to provide high-quality services.

(7) Within 90 days of receiving funding for an award, provide to the Department copies of partnership agreements with the REL(s) in the region that the Center serves and, as appropriate, other Department-funded technical assistance providers that are charged with supporting comprehensive, systemic changes in States or Department-funded technical assistance providers with particular expertise (e.g., early learning or instruction for English language learners) relevant to the region's service plan. Partnership agreements must define processes for coordination and support collaboration to meet relevant program requirements.

(8) Be located in the region the Center serves. The Project Director must be capable of managing all aspects of the Center and be either at a minimum of 0.75 FTE or there must be two Co-Project Directors each at a minimum of 0.5 FTE. The Project Director or Co-Project Directors and key personnel must also be able to provide on-site services at the intensity, duration, and modality appropriate to achieving agreed-upon milestones, outputs, and outcomes described in annual service plans.

Program Requirements for Content Centers: Content Center grantees under this program must:

(1) Consult and integrate feedback from the National and Regional Centers in developing the annual service plan to inform high-quality tools, resources, and overall technical assistance in priority areas.

(2) Collaborate with Regional Centers to address specific requests for assistance from States within the regions and strengthen Regional Center staff knowledge and expertise on the evidence base and effective practices within its specific content area.

(3) Produce high-quality universal capacity-building services, and identify, organize, select, and translate existing key research knowledge and Department guidance related to the Center's content area and examples of workable strategies and systems for implementing provisions and programs that have produced positive outcomes for schools and students, and communicate the information in ways that are highly relevant and highly useful to State- and local-level policy makers and practitioners.

(4) Collaborate with the National Center and Regional Centers to convene States and LEAs, researchers, and other experts, including other Federal entities and providers of technical assistance as identified by the Department, to learn from each other about practical strategies for implementing ESEA provisions and programs related to the Center's area of focus.

(5) Support the participation of Content Center staff in CCNetwork peer learning opportunities with the goal of providing high-quality services while reaching as many SEAs, REAs, LEAs, and schools in need of services as possible.

(6) Within 90 days of receiving funding for an award, provide copies to the Department of partnership agreements with Department-funded technical assistance providers that are charged with supporting comprehensive, systemic changes in States or Department-funded technical assistance providers with particular expertise relevant to the Center's content area. Partnership agreements must define processes for coordination and support collaboration to meet relevant program requirements.

Proposed Application Requirements:

Application Requirements for All Centers:

(1) Present a plan for operating the Comprehensive Center that clearly establishes the critical educational challenges proposed to be addressed by the Center, the impact the Center plans to achieve, including the proposed scope of services in relation to the number of SEAs, REAs, TEAs, LEAs, and, as appropriate, schools served, with respect to specific State and local outcomes that would represent significant achievement in advancing the efforts of State and local systems to improve educational opportunities and student outcomes, and proposes how the Center will efficiently and effectively provide appropriate capacity-building services to achieve the desired outcomes.

(2) Present applicable regional, State, and local educational needs, including relevant data demonstrating the identified needs, and including the perspectives of underrepresented groups, that could be addressed through capacity-building to implement and scale up evidence-based programs, practices, and interventions.

(3) Demonstrate how key personnel possess expert knowledge of statutory requirements, regulations, and policies related to ESEA programs, current education issues, and policy initiatives for supporting the implementation and scaling up of evidence-based programs, practices, and interventions.

(4) Demonstrate expertise in providing highly relevant and highly effective technical assistance (e.g., that is co-designed with clients; demonstrably addresses authentic needs based on needs-sensing activities; is timely, relevant, useful, clear and measurable; and results in demonstrable improvements or outcomes), including by demonstrating expertise in the current research on adult learning principles, coaching, and implementation science that will drive the applicant's capacity-building services; how the applicant has successfully supported clients to achieve desired outcomes; and how the applicant will promote self-sufficiency and sustainability of State- and local-led school improvement activities.

(5) Present a logic model (as defined in 34 CFR 77.1) informed by research or evaluation findings that demonstrates a rationale (as defined in 34 CFR 77.1) explaining how the project is likely to improve or achieve relevant and expected outcomes. The logic model must communicate how the proposed project would achieve its expected outcomes (short-term, mid-term, and long-term), and provide a framework for both the formative and summative evaluations of the project consistent with the applicant's performance management plan. Include a description of underlying concepts, assumptions, expectations, beliefs, and theories, as well as the relationships and linkages among these variables, and any empirical support for this framework.

(6) Present a management plan that describes the applicant's proposed approach to managing the project to meet all program requirements related to needs assessment, stakeholder engagement, communications and dissemination, and personnel management.

(7) Present a performance management plan that describes the applicant's proposed approach to meeting the program requirements related to performance management, including the applicant's proposed strategy to report on defined program performance measures, and describes the criteria for determining the extent to which: capacity-building services proposed in annual service plans were implemented as intended; recipient outcomes were met (short-term, midterm, and long-term); recipient capacity was developed; and services reached and were used by intended recipients.

(8) Include, in the budget, a line item for an annual set-aside of five percent of the grant amount to support emerging needs that are consistent with the proposed project's intended outcomes, as those needs are identified in consultation with, and approved by, the OESE program officer. With approval from the program officer, the project must reallocate any remaining funds from this annual set-aside no later than the end of the third quarter of each budget period.

Application Requirements for the National Center: In addition to meeting the application requirements for all Centers, a National Center applicant must:

(1) Demonstrate expertise and experience in leading digital engagement strategies to attract and sustain the involvement of education stakeholders, including, but not limited to: implementing a robust web and social media presence and engagement, overseeing customer relations management, providing editorial support to Regional and Content Centers, and utilizing web analytics to improve content engagement.

(2) Describe the proposed approach to providing targeted capacity-building services, including how the applicant intends to collaborate with Regional Centers to identify potential recipients and estimate how many SEAs, REAs, TEAs, and LEAs it has the capacity to reach; how it will measure the readiness and capacity of potential recipients; and how it will measure the extent to which targeted capacity-building services achieve intended recipient outcomes and result in increased recipient capacity (and specifically, increase capacity in one or more of the four dimensions of capacity-building).

(3) Describe the proposed approach to universal capacity-building services, including how many and which recipients it plans to reach and how the applicant intends to: measure the extent to which products and services developed actually address common problems; support recipients in the selection, implementation, and monitoring of evidence-based practices; improve the use of evidence with regard to emerging national education trends; and build recipient capacity in at least one of the four dimensions of capacity-building.

Application Requirements for Regional Centers:

In addition to meeting the application requirements for all Centers, a Regional Center applicant must—

(1) Describe the proposed approach to intensive capacity-building services, including identification of intended recipients based on available data in each of the content areas identified, alignment of proposed capacity-building services to client needs, and engagement of clients who may not initiate contact to request services. The applicant must also describe how it intends to measure the readiness of clients and recipients to work with the Center; co-design projects and define outcomes; measure and monitor client and recipient capacity across the four dimensions of capacity-building; and measure the outcomes achieved throughout and at the conclusion of a project.

(2) Demonstrate that proposed key personnel have the appropriate expertise to deliver high-quality, intensive services that meet client and recipient needs similar to those in the region to be served.

Application Requirements for Content Centers: In addition to meeting the application requirements for all Centers, a Content Center applicant must—

(1) Describe the proposed approach to carry out targeted capacity-building services that increase the use of evidence-based products or tools regarding the designated content area amongst practitioners, education system leaders, elementary schools and secondary schools, LEAs, and SEAs.

(2) Describe the proposed approach to providing universal capacity-building services, including how it will develop evidence-based products or tools regarding the designated content area; widely disseminate such products or tools to practitioners, education system leaders, and policymakers in formats that are high quality, easily accessible, understandable, and actionable; identify intended recipients; and align proposed capacity-building services to client needs.

(3) Demonstrate that key personnel have appropriate subject matter and technical expertise to translate evidence into high-quality technical assistance services and products for State and local clients, including expertise applying adult-learning principles and implementation science to the delivery of technical assistance services and products.

Proposed Definitions: The Assistant Secretary proposes the following definitions of “client,” “collaboration,” “coordination,” “English learner,” “key personnel,” and “recipient,” for use in this program in any year in which this program is in effect. We propose these definitions to aid applicants in understanding the intent and purpose of the priorities, requirements, and selection criteria.

We also propose to replace certain terms established in the Notice of Final Priorities, Requirements, Definitions, and Performance Measures published in the Federal Register on April 4, 2019 (84 FR 13122) (2019 NFP). Specifically, although the 2019 NFP is not generally intended to be superseded by this proposed action, we are proposing new definitions for the terms “high-leverage problem,” “outcomes,” and “regional educational agency” to better reflect how they are used in this document. Additionally, as established in the 2019 NFP, the term “capacity building services” includes within it definitions for the “four dimensions of capacity-building services” and the “three tiers of capacity-building services.” In this NPP, we propose to define these terms separately. Other than separating these terms, we have not proposed changes to the general term “capacity building services” or the “four dimensions of capacity-building services” as established in the 2019 NFP; however, to reflect how they apply to the proposed priorities in this document, we propose revised definitions for the three tiers of capacity-building services: “intensive capacity-building services,” “targeted capacity-building services,” and “universal capacity-building services.”

We also propose to use, in the proposed priorities, requirements, and selection criteria, the following terms, which are defined in the ESEA: “immigrant children and youth,” “migratory child,” and “tribal educational agency.”

The proposed priorities, requirements, and selection criteria also incorporate the following terms established for use in this program by the 2019 NFP: “capacity-building services,” “milestone,” and “outputs.” We have included the definitions of those terms in Appendix 1 to this document.

Capacity-building services means assistance that strengthens an individual's or organization's ability to engage in continuous improvement and achieve expected outcomes.

Client means the organization with which the Center enters into agreement for negotiated capacity-building services. The client is engaged in defining the high-leverage problems, capacity-building services, and time-based outcomes for each project noted in the Center's annual service plan. Representatives of clients include but are not limited to Chief State School Officers or their designees, LEA leaders, and other system leaders.

Collaboration means exchanging information, altering activities, and sharing in the creation of ideas and resources to enhance the capacity of one another for mutual benefit to accomplish a common goal.

Coordination means exchanging information, altering activities, and synchronizing efforts to make unique contributions to shared goals.

English learner means an individual who is an English learner as defined in section 8101(20) of the ESEA, or an individual who is an English language learner as defined in section 203(7) of the Workforce Innovation and Opportunity Act.

Four dimensions of capacity-building services are:

(1) Human capacity means development or improvement of individual knowledge, skills, technical expertise, and ability to adapt and be resilient to policy and leadership changes.

(2) Organizational capacity means structures that support clear communication and a shared understanding of an organization's visions and goals, and delineated individual roles and responsibilities in functional areas.

(3) Policy capacity means structures that support alignment, differentiation, or enactment of local, State, and Federal policies and initiatives.

(4) Resource capacity means tangible materials and assets that support alignment and use of Federal, State, private, and local funds.

High-leverage problems means problems that (1) if addressed could result in substantial improvements for groups of students with the greatest need, including for students from low-income families and for students attending schools implementing comprehensive support and improvement or targeted or additional targeted support and improvement activities under ESEA section 1111(d)); (2) are priorities for education policymakers, particularly at the State level; and (3) require intensive capacity-building services to achieve outcomes that address the problem.

Immigrant children and youth have the meaning ascribed in section 3201(5) of the ESEA.

Intensive capacity-building services means assistance often provided on-site and requiring a stable, ongoing relationship between the Comprehensive Center and its clients and recipients, as well as periodic reflection, continuous feedback, and use of evidence-based improvement strategies. This category of capacity-building services should support increased recipient capacity in more than one dimension of capacity-building services and result in medium-term and long-term outcomes at one or more system levels.

Key personnel means any personnel considered to be essential to the work being performed on the project.

Migratory child has the meaning ascribed it in section 1309(3) of the ESEA.

Outcomes means demonstrable effects of receiving capacity-building services and must reflect the result of capacity built in at least one of the four dimensions of capacity building. “Outcomes” includes short-term outcomes, medium-term outcomes, and long-term outcomes:

(1) Short-term outcomes means effects of receiving capacity-building services after 1 year.

(2) Medium-term outcomes means effects of receiving capacity-building services after 2 to 3 years.

(3) Long-term outcomes means effects of receiving capacity-building services after 4 or more years.

Recipient means organizations including, but not limited to, SEAs, LEAs, REAs, TEAs, and schools that have received “intensive” and “targeted” capacity-building services and products from Regional Centers, or that received “targeted” or “universal” capacity-building services and products from the National Center or Content Centers.

Regional educational agency means educational agencies that serve regional areas within a State.

Targeted capacity-building services means assistance based on needs common to multiple clients and recipients and not extensively individualized. A relationship is established between the recipient(s), the National Center or Content Center, and Regional Center(s), as appropriate. This category of capacity-building services includes one-time, labor-intensive events, such as facilitating strategic planning or hosting national or regional conferences. It can also include services that extend over a period of time, such as facilitating a series of conference calls, virtual or in-person meetings, or learning communities on single or multiple topics that are designed around the needs of the recipients. Facilitating communities of practice can also be considered targeted capacity-building services.

Tribal educational agency has the meaning ascribed in section 6132(b)(3) of the ESEA.

Universal capacity-building services means assistance and information provided to independent users through their own initiative, involving minimal interaction with National or Content Center staff. This category of capacity-building services includes information or products, such as newsletters, guidebooks, policy briefs, or research syntheses, downloaded from the Center's website by independent users, and may include one-time, invited or offered webinar or conference presentations by National or Content Center staff. Brief communications or consultations by National or Content Center staff with recipients, either by telephone or email, are also considered universal services.

Proposed Selection Criteria

The Assistant Secretary proposes the following selection criteria for evaluating an application under this program. We may apply one or more of these criteria in any year in which this program is in effect. In the notice inviting applications we will announce the maximum possible points available under each criterion.

Approach to Capacity Building. In determining the overall quality of the approach to capacity building of the proposed project, the Secretary may consider one or more of the following factors.

(1) The extent to which the proposed project represents an exceptional approach to responding to the priority or priorities established for the competition that will likely result in building SEA capacity to implement State-level initiatives and support local- and school-level initiatives that improve educational outcomes, close achievement gaps, and improve the quality of instruction for all students.

(2) The extent to which the applicant demonstrates an exceptional approach to developing and delivering high-quality, useful, and relevant capacity-building services that—

(a) In the case of an applicant for the National Center, would be expected to assist SEAs, REAs, TEAs, LEAs, and Regional Center clients and recipients, including those who do not proactively request assistance, to address the activities described in the priority;

(b) In the case of an applicant for a Regional Center, would be expected to assist clients and recipients to address the activities described in the priority; and

(c) In the case of an applicant for a Content Center, would be expected to assist clients and recipients, including those who do not proactively request assistance, to address activities described in the priority related to the designated content area.

(3) The extent to which the proposed technical assistance plan provides strategies that address the technical assistance needs of State and local educational systems in key areas of identified need, as evidenced by in-depth knowledge and understanding of—

(a) In the case of an applicant for the National Center, implementation challenges faced by States; evidence-based practices related to teaching, learning, and development; needs of schools designated for improvement; needs to improve core instruction; and emerging education topics of national importance;

(b) In the case of an applicant for a Regional Center, the specific educational goals and priorities of the States to be served by the applicant, including emerging priorities based on State-led reform efforts, and the applicable State and regional demographics, policy contexts, and other factors and their relevance to improving student outcomes, closing opportunity and achievement gaps, and improving instruction; and

(c) In the case of an applicant for a Content Center, State technical assistance needs and evidence-based practices related to the Content Center priority for which the applicant is applying.

(4) In the case of an applicant for the National Center, the extent to which the capacity-building and management plans propose an exceptional approach to meeting the requirements for the National Center.

(5) In the case of an applicant for a Regional Center, the extent to which the applicant's capacity-building plan proposes an exceptional approach to meeting the requirements for all Regional Centers.

(6) In the case of an applicant for a Content Center, the extent to which the applicant's capacity-building plan proposes an exceptional approach to meeting the requirements for all Content Centers.

Quality of Project Design. In determining the quality of the project design of the proposed center for which the applicant is applying, the Assistant Secretary may consider one or more of the following factors.

(1) The extent to which the proposed performance management system and processes demonstrate an exceptional approach to integrating continuous improvement processes and evaluation that will result in regular and ongoing improvement in the quality of the services provided and increase the likelihood that recipient outcomes are achieved.

(2) The extent to which the proposed stakeholder and communication engagement system is likely to result in a high level of engagement with multiple potential beneficiaries or participants involved in or impacted by the proposed capacity-building activities to ensure that the proposed services reflect their needs, are delivered in a manner that is relevant and useful, and reach the largest number of recipients possible.

(3) The extent to which the proposed personnel management system includes performance management processes for staff, subcontractors, and consultants that enable effective hiring, developing, supervising, and retaining a team of subject-matter and technical assistance experts and professional staff that will effectively meet the needs of the project.

(4) The extent to which the proposed partnerships represent an intentional approach to collaboration that is likely to reduce client burden and to ensure that Federal resources are being used most efficiently and effectively to meet a variety of needs across federally funded providers.

(5) In the case of an applicant for the National Center, the extent to which the proposed project represents an exceptional management approach, including with respect to managing budgets; selecting, coordinating, and overseeing multiple consultant and subcontractor teams; managing communications and dissemination systems; and leading large-scale projects to coordinate with and deliver tools, training, and capacity-building services to governments, agencies, communities, schools, or other organizations.

Subject Matter and Technical Assistance Expertise. In determining the subject-matter and technical expertise of key project personnel, the Assistant Secretary considers the extent to which the applicant encourages applications for employment from persons who are members of groups that have traditionally been underrepresented based on race, color, national origin, gender, age, or disability. In addition, the Assistant Secretary may consider one or more of the following factors.

(1) The extent to which key project personnel demonstrate the required expertise and relevant knowledge, understanding, and experience in operating and administering State and local educational systems to effectively support recipients.

(2) The extent to which the applicant has demonstrated experience providing high-quality, timely, relevant, and useful technical assistance and capacity-building services to State and local educational systems.

(3) The extent to which the applicant has demonstrated the ability to develop ongoing partnerships with leading experts and organizations nationwide or regionally, as appropriate, that enhance its ability to provide high-quality technical assistance and subject-matter expertise.

(4) In the case of an applicant for the National Center, the extent to which the applicant has demonstrated ability in operating a project of such scope.

Final priorities, requirements, definitions, and selection criteria: We will announce the final priorities, requirements, definitions, and selection criteria in a document in the Federal Register. We will determine the final priorities, requirements, definitions, and selection criteria after considering responses to this document and other information available to the Department. This document does not preclude us from proposing additional priorities, requirements, definitions, or selection criteria, subject to meeting applicable rulemaking requirements.

Note: This document does not solicit applications. In any year in which we choose to use one or more of these priorities, requirements, definitions, and selection criteria, we invite applications through a notice in the Federal Register.

Executive Orders 12866, 13563, and 14094

Regulatory Impact Analysis

Under Executive Order 12866, the Office of Management and Budget (OMB) must determine whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (as of 2023 but to be adjusted every 3 years by the Administrator of OIRA for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlements, grants, user fees, or loan programs or the rights and obligations of recipients thereof; or

(4) Raise legal or policy issues for which centralized review would meaningfully further the President's priorities, or the principles set forth in this Executive order, as specifically authorized in a timely manner by the Administrator of OIRA in each case.

This proposed regulatory action is not a significant regulatory action subject to review by OMB under section 3(f) of Executive Order 12866 (as amended by Executive Order 14094).

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities, requirements, definitions, and selection criteria only on a reasoned determination that their benefits would justify their costs. In choosing among alternative regulatory approaches, we selected those approaches that would maximize net benefits. Based on the analysis that follows, the Department believes that this regulatory action is consistent with the principles in Executive Order 13563.

We also have determined that this regulatory action would not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Potential Costs and Benefits

The Department believes that this proposed regulatory action would not impose significant costs on eligible entities, whose participation in our programs is voluntary, and whose costs can generally be covered with grant funds. As a result, the proposed regulatory action would not impose any particular burden, except when an entity voluntarily elects to apply for a grant. The proposed priorities, requirements, definitions, and selection criteria would help ensure that the grant program selects a high-quality applicant to implement activities that meet the goals of the program for each Center. We believe these benefits would outweigh any associated costs.

Clarity of the Regulations

Executive Order 12866 and the Presidential memorandum “Plain Language in Government Writing” require each agency to write regulations that are easy to understand.

The Assistant Secretary invites comments on how to make the proposed priorities, requirements, definitions, and selection criteria easier to understand, including answers to questions such as the following:

• Are the requirements in the proposed priorities, requirements, definitions, and selection criteria clearly stated?

• Do the proposed priorities, requirements, definitions, and selection criteria contain technical terms or other wording that interferes with their clarity?

• Could the description of the proposed priorities, requirements, definitions, and selection criteria in the SUPPLEMENTARY INFORMATION section of the preamble be more helpful in making the proposed priorities, requirements, definitions, and selection criteria easier to understand? If so, how?

• What else could we do to make the proposed priorities, requirements, definitions, and selection criteria easier to understand?

To send any comments on how the Department could make the proposed priorities, requirements, definitions, and selection criteria easier to understand, see the instructions in the ADDRESSES section.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Regulatory Flexibility Act Certification

The Assistant Secretary certifies that this proposed regulatory action would not have a significant economic impact on a substantial number of small entities. The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

Of the impacts we estimate accruing to grantees or eligible entities, all are voluntary. Therefore, we do not believe that the proposed priorities, requirements, definitions, and selection criteria would significantly impact small entities beyond the potential for increasing the likelihood of their applying for, and receiving, a competitive grant from the Department.

Paperwork Reduction Act of 1995: These proposed priorities, requirements, definitions, and selection criteria contain information collection requirements that are approved by OMB under OMB control number 1894-0006. The proposed priorities, requirements, definitions, and selection criteria do not affect the currently approved data collection.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of the Department published in the Federal Register, in text or Portable Document Format (PDF). To use PDF, you must have Adobe Acrobat Reader, which is available free at the site. You may also access documents of the Department published in the Federal Register by using the article search feature at www.federalregister.gov. Specifically, through the advanced search feature at this site, you can limit your search to documents published by the Department.

Adam Schott,
Deputy Assistant Secretary for Policy and Programs, Delegated the Authority to Perform the Functions and Duties of the Assistant Secretary Office of Elementary and Secondary Education.

Appendix I

The proposed priorities, requirements, and selection criteria incorporate the following terms established for use in this program by the 2019 NFP:

Milestone means an activity that must be completed. Examples include: Identifying key district administrators responsible for professional development, sharing key observations from needs assessment with district administrators and identified stakeholders, preparing a logic model, planning for State-wide professional development, identifying subject matter experts, and conducting train-the-trainer sessions.

Outputs means products and services that must be completed. Examples include: Needs assessment, logic model, training modules, evaluation plan, and 12 workshop presentations.

Note: A product output under this program would be considered a deliverable under the open licensing regulations at 2 CFR 3474.20.

[FR Doc. 2024-01257 Filed 1-19-24; 8:45 am]

BILLING CODE 4000-01-P